DEPARTMENT OF COMMERCE

Office of the Secretary

Performance Review Board; Membership

The following individuals are eligible to serve on the Performance Review Board in accordance with the Senior Executive Service Performance Appraisal System of the Office of the Secretary: Karen F. Hogan, Kathleen J. Taylor, K. David Holmes, Jr., John J. Phelan, III, Linda Moye-Cheatham, Roger Baker, Christopher W. Strobel, James L. Taylor, and Raul Perea-Henze.

Deborah Jefferson,
Executive Secretary, Office of the Secretary, Performance Review Board.

[FR Doc. 00-27673 Filed 10-26-00; 8:45 am]

BILLING CODE 3510-BS-M